DEPARTMENT OF THE INTERIOR

Geological Survey

[USGS-GX12LR000F60100]

Agency Information Collection Activities: Comment Request for the Industrial Minerals Surveys (40 Forms)

AGENCY: U.S. Geological Survey (USGS), Interior.

ACTION: Notice of a revision of a currently approved information collection (1028-0062).

SUMMARY: To comply with the Paperwork Reduction Act of 1995 (PRA), we are notifying the public that we have submitted to the Office of Management and Budget (OMB) an Information Collection Request (ICR) for the revision of the currently approved paperwork requirements for the Industrial Minerals Surveys. This collection consists of 40 forms. The revision includes adding USGS Form 9-4144-S; transferring USGS Form 9-4142-Q from Information Collection 1028-0065; and modifying the following forms: USGS Form 9-4004-A, USGS Form 9-4027-A, and USGS Form 9-4035-S. This notice provides the public and other Federal agencies an opportunity to comment on the nature of this collection which is scheduled to expire on June 30, 2012.

DATES: Please submit your comments on or before July 23, 2012.

ADDRESSES: Please submit written comments on this ICR to the OMB Office of Information and Regulatory Affairs, Attention: Desk Officer for the Department of the Interior via email to oira_docket@omb.eop.gov or fax at 202-395-5806; and reference Information Collection 1028-0062 in the subject line. Please also submit a copy of your comments to Shari Baloch, Information Collection Clearance Officer, U.S. Geological Survey, 12201 Sunrise Valley Drive, Mail Stop 807, Reston, VA 20192 (mail); 703-648-7199 (fax); or smbaloch@usgs.gov (email); and reference Information Collection 1028-0062 in the subject line.

FOR FURTHER INFORMATION CONTACT: To request additional information about this ICR, contact Carleen Kostick at 703-648-7940 (telephone); ckostick@usgs.gov (email); or by mail at U.S. Geological Survey, 985 National Center, 12201 Sunrise Valley Drive, Reston, VA 20192. To see a copy of the entire ICR submitted to OMB, go to http://www.reginfo.gov (Information Collection Review, Currently under Review).

SUPPLEMENTARY INFORMATION:

I. Abstract

Respondents use these forms to supply the USGS with domestic production and consumption data of industrial mineral commodities, some of which are considered strategic and critical. This information will be published as chapters in Minerals Yearbook, monthly Mineral Industry Surveys, annual Mineral Commodity Summaries, and special publications, for use by Government agencies, industry, education programs, and the general public.

II. Data

OMB Control Number: 1028-0062.

Form Number: Various (40 forms).

Title: Industrial Minerals Surveys.

Type of Request: Revision of a currently approved collection.

Affected Public: Private sector: U.S. nonfuel minerals producers and consumers of industrial minerals; Public sector: State and local governments.

Respondent Obligation: Voluntary.

Frequency of Collection: Monthly, quarterly, semiannually, and annually.

Estimated Number of Annual Responses: 20,255

Annual Burden Hours: 13,794 hours. We expect to receive 20,255 annual responses. We estimate an average of 10 minutes to 5 hours per response.

Estimated Reporting and Recordkeeping “Non-Hour Cost” Burden: We have not identified any “non-hour cost” burdens associated with this collection of information.

III. Request for Comments

On February 8, 2012, we published a Federal Register Notice (77 FR 6580) announcing that we would submit this ICR to OMB for approval and soliciting comments. The comment period closed on April 9, 2012. We did not receive any public comments in response to that notice.

We again invite comments concerning this ICR on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at anytime. Although you can ask OMB in your comment to withhold your personal identifying information from public review, we cannot guarantee that it will be done.

Dated: June 15, 2012.
John H. DeYoung, Jr.,
Director, National Minerals Information Center, U.S. Geological Survey.

[FR Doc. 2012-15368 Filed 6-21-12; 8:45 am]

BILLING CODE 4311-AM-P